INTERNATIONAL TRADE COMMISSION

Investigation No. 337-TA-1064

Certain Shielded Electrical Ribbon Cables and Products Containing the Same: Notice of a Commission Determination Not To Review an Initial Determination Terminating the Investigation Based on a Consent Order Stipulation and Proposed Consent Order; Issuance of Consent Order and Termination of the Investigation

AGENCY: U.S. International Trade Commission.

ACTION: Notice.

SUMMARY: Notice is hereby given that the U.S. International Trade Commission has determined not to review an initial determination (“ID”) (Order No. 20) of the presiding administrative law judge (“ALJ”), terminating the above-captioned investigation based on a consent order stipulation and proposed consent order. The Commission has issued the consent order and has also determined to terminate the investigation.

FOR FURTHER INFORMATION CONTACT: Clint Gerdine, Esq., Office of the General Counsel, U.S. International Trade Commission, 500 E Street SW, Washington, DC 20436, telephone (202) 708-2310. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on August 7, 2017, based on a complaint filed on behalf of 3M Company and 3M Innovative Properties Company, both of St. Paul, Minnesota. 82 FR 36828-29. The complaint, as supplemented, alleges violations of section 337 of the Tariff Act of 1930, as amended, 19 U.S.C. 1337, by reason of infringement of U.S. Patent Nos. 8,933,333; 9,601,236; and 9,627,106. The complaint further alleges that a domestic industry exists. The Commission's notice of investigation named the following as respondents: Amphenol Corporation and Amphenol Interconnect Products, both of Endicott, New York; Amphenol Assemble Technology (Xiamen) Co., Ltd. and Amphenol (Xiamen) High Speed Cable Co., all of Fujian, China; and Amphenol East Asia Limited (Taiwan) of Taoyuan County, Taiwan. The Office of Unfair Import Investigations (“OUII”) is also a party to the investigation.

On March 22, 2018, complainants and respondents jointly moved to terminate the investigation with respect to all infringement allegations and respondents based on a consent order stipulation and proposed consent order. OUII supported the joint motion.

The ALJ issued the subject ID (Order No. 20) on April 3, 2018, granting the joint motion for termination. She found that the joint motion satisfied Commission Rule 210.21(c). The ALJ further found, pursuant to Commission rule 210.50(b)(2), that termination of this investigation is not contrary to the public interest. No petitions for review were filed.

The Commission has determined not to review the ID, issued the consent order, and terminated the investigation.

The authority for the Commission's determination is contained in section 337 of the Tariff Act of 1930, as amended, 19 U.S.C. 1337, and in part 210 of the Commission's Rules of Practice and Procedure, 19 CFR part 210.

By order of the Commission.
Issued: April 27, 2018.
Katherine Hiner,
Supervisory Attorney.

[FR Doc. 2018-09339 Filed 5-2-18; 8:45 am]

BILLING CODE 7020-02-P